PRESIDIO TRUST

Revised Notice of Public Meeting

AGENCY: The Presidio Trust.

ACTION: Revised notice of public meeting.

SUMMARY: In accordance with § 103(c)(6) of the Presidio Trust Act, 16 U.S.C. 460bb, and in accordance with the Presidio Trust's bylaws, notice was given that a public meeting of the Presidio Trust Board of Directors would be held commencing 6:30 p.m. on Tuesday, April 7, 2009, at the Herbst International Exhibition Hall, 385 Moraga Avenue, San Francisco, California. The location of the public meeting has changed. A public meeting of the Presidio Trust Board of Directors will be held commencing 6:30 p.m. on Tuesday, April 7, 2009, at the Palace of Fine Arts Theatre, 3301 Lyon Street, San Francisco, California.

The purposes of this meeting are to provide an Executive Director's report, to receive public comment on the revised Draft Presidio Trust Management Plan Main Post Update and Draft Supplement to the Supplemental Environmental Impact Statement, and to receive public comment on other matters in accordance with the Trust's Public Outreach Policy.

Time: The meeting will begin at 6:30 p.m. on Tuesday, April 7, 2009.

ADDRESSES: The meeting will be held at the Palace of Fine Arts Theatre, 3301 Lyon Street, San Francisco, California.

FOR FURTHER INFORMATION CONTACT: Karen Cook, General Counsel, the Presidio Trust, 34 Graham Street, P.O. Box 29052, San Francisco, California 94129-0052, Telephone: 415.561.5300.

Dated: March 16, 2009.
Karen A. Cook,
General Counsel.

[FR Doc. E9-6095 Filed 3-19-09; 8:45 am]

BILLING CODE 4310-4R-P